DEPARTMENT OF ENERGY

Federal Energy Regulatory Commission

[Docket No. RP03-631-000]

Viking Gas Transmission Company; Notice of Proposed Changes in FERC Gas Tariff

October 8, 2003.

Take notice that on September 29, 2003, Viking Gas Transmission Company (Viking) tendered for filing to become part of its FERC Gas Tariff, First Revised Volume No. 1, the following tariff sheets to become effective on November 1, 2003:

Fifth Revised Sheet No. 5H

Second Revised Sheet No. 87.01

Second Revised Sheet No. 87A

Viking states that the purpose of its filing is to modify Section 26 of the General Terms and Conditions of its FERC Gas Tariff to implement a twice a year change to its fuel and loss retention percentage (FLRP) to become effective April 1 and November 1 of each year. Furthermore, Viking proposes to establish an FLRP of 2.58% for Zone 1-2, .2.17% for Zone 1-1 and .46% for Zone 2-2 to become effective November 1, 2003. This represents decreases of .32% for Zone 1-2, .2% to Zone 1-1 and .12% to Zone 2-2. Viking states that its proposal will provide greater fuel cost certainty and less volatility.

Viking states that copies of this filing have been sent to all of Viking's contracted shippers and interested state regulatory commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Intervention and Protest Date: October 14, 2003.

Magalie R. Salas,
Secretary.

[FR Doc. E3-00054 Filed 10-15-03; 8:45 am]

BILLING CODE 6717-01-P